DEPARTMENT OF HEALTH AND HUMAN SERVICES

Office of the Secretary

Findings of Research Misconduct

AGENCY: Office of the Secretary, HHS.

ACTION: Notice.

SUMMARY: Notice is hereby given that the Office of Research Integrity (ORI) has taken final action in the following case:

Jayant Jagannathan, M.D., University of Virginia Medical Center: Based on the report of an investigation conducted by the University of Virginia (UVA) and additional analysis conducted by ORI in its oversight review, ORI found that Dr. Jayant Jagannathan, former Resident Physician at UVA Medical Center, engaged in research misconduct by plagiarizing research supported by National Institutes of Health (NIH) research and training awards and by NIH intramural research funds from the National Institute of Neurological Disorders and Stroke (NINDS), Surgical Neurosurgery Branch (NSB), and from the National Institute of Dental and Craniofacial Research (NIDCR).

ORI found that the Respondent engaged in research misconduct by including, in five publications, large amounts of text and an illustration that he plagiarized from publications supported by the following NIH grant awards: T32 CA09677, P01 HL024136, R01 HL059157, P50 CA090270, M01 RR01346, R01 CA075979, R01 DK064169, R01 NS027544, R01 NS052406, and K08 NS002197,¹ and by intramural funds from the Surgical Neurosurgery Branch, NINDS, and from NIDCR.

¹ T32 CA09677, Radiation Biology Training Grant,” A. Kennedy, P.I.

P01 HL024136, “Mechanisms of Remodeling in Chronic Airway Inflammation,” G. Caughey, P.I.

HL059157, “Angioproteins in Airway Vascular Leak and Angiogenesis,” D. McDonald, P.I.

P50 CA090270, “UTMDACC Cancer Center SPORE in prostate cancer,” C. Logothetis, P.I.

M01 RR01346, “UTHSC GCRC,” R. Clark, P.I.

R01 CA075979, “Mechanisms for Pituitary Tumorigenesis,” S. Melmed, P.I.

R01 DK064169, “Metabolic Consequences of Sccurin Disruption,” S. Melmed, P.I.

R01 NS027544, “Loss of Developmental Plasticity after Head Injury,” D.A. Hovda, P.I.

R01 NS052406, “Age-dependent Ketone Metabolism after Brain Injury,” M.L. Prims, P.I.

K08 NS002197, “NMDA Receptor Dysfunction after Traumatic Brain Injury,” C.C. Christopher, P.I.

Publications in which Respondent reported plagiarized material were:

1. Jagannathan, J., Li, J., Szerlip, N., Vortmeyer, A.O., Lonser, R.R., Oldfied, E.H., Zhuang, Z. “Application and implementation of selective tissue microdissection and proteomic profiling in neurological disease.” Neurosurgery 64:4-14, 2009 (to be retracted);

2. Jagannathan, J., Prevedello, D.M., Dumont, A.S., Laws, E.R. “Cellular Signaling Molecules as Therapeutic Targets in the Treatment of Glioblastoma Multiforme.” Neurosurgical Focus 20(4):E8, 2006 (retracted “due to plagiarism,” Neurosurgical Focus 30(2):E8r, 2011);

3. Kanter, A.S., Jagannathan, J., Shaffrey, C.I., Ouellet, J.A., Mummaneni, P.V. “Inflammatory and dysplastic lesions involving the spine.” Neurosurgical Clinics of North America 19(1):93-109, 2008;

4. Jagannathan, J., Dumont, A.S., Prevedello, D.M., Oskouian, R.J., Lopes, B., Jane, J.A. Jr, Laws, E.R. Jr. “Genetics of pituitary adenomas: Current theories and future implications.” Neurosurgical Focus 19(5):E4, 2005 (retracted “due to plagiarism,” Neurosurgical Focus 30(2):E4r, 2011);

5. Jagannathan, J. “Role of calcium influx and modulation of local neurotransmitters as hallmarks of pediatric traumatic brain injury.” Biomarkers Med. 3:95-97, 2009 (retracted online 9/11/2010).

Dr. Jagannathan has entered into a Voluntary Settlement Agreement (Agreement) and has voluntarily agreed for a period of four (4) years, beginning on October 20, 2011:

(1) To have his research supervised; Respondent agreed to ensure that prior to the submission of an application for U.S. Public Health Service (PHS) support for a research project on which his participation is proposed and prior to his participation in any capacity on PHS-supported research, the institution employing him must submit a plan for supervision of his duties to ORI for approval; the plan for supervision must be designed to ensure the scientific integrity of his research contribution; Respondent agreed that he will not participate in any PHS-supported research after sixty (60) days from the effective date of the Agreement until a plan for supervision is submitted to and approved by ORI; Respondent agreed to maintain responsibility for compliance with the agreed upon supervision plan;

(2) That any institution employing him must submit, in conjunction with each application for PHS funds, or report, manuscript, or abstract involving PHS-supported research in which Respondent is involved, a certification to ORI that the data provided by Respondent are based on actual experiments or are otherwise legitimately derived and that the data, procedures, and methodology are accurately reported in the application, report, manuscript, or abstract;

(3) To submit a letter to the journal editor for publication 3 (Neurosurgical Clinics of North America) listed above, requesting that the paper be retracted because Respondent had plagiarized portions of text reported in it; the letter must be sent to ORI for approval prior to being sent to the editor; and

(4) To exclude himself from serving in any advisory capacity to PHS including, but not limited to, service on any PHS advisory committee, board, and/or peer review committee, or as a consultant.

FOR FURTHER INFORMATION CONTACT: Director, Division of Investigative Oversight, Office of Research Integrity, 1101 Wootton Parkway, Suite 750, Rockville, MD 20852, (240) 453-8800.

John Dahlberg,
Director, Division of Investigative Oversight, Office of Research Integrity.

[FR Doc. 2011-28619 Filed 11-3-11; 8:45 am]

BILLING CODE 4150-31-P